DEPARTMENT OF THE INTERIOR

Bureau of Land Management

[WO-220-1020-PB-241A]

Extension of Approved Information Collection, OMB Control Number 1004-0041

AGENCY: Bureau of Land Management, Interior.

ACTION: Notice and request for comments.

SUMMARY: In accordance with the Paperwork Reduction Act of 1995, the Bureau of Land Management (BLM) plans to request the Office of Management and Budget (OMB) to extend an existing approval to collect information from permittees and lessees on the actual grazing use by their livestock. The BLM requires permittees and lessees to submit the required information on Forms 4130-1 4130-1a, 4130-1b, 4130-3a, 4130-4, and 4130-5 and, nonform information under 43 CFR subparts 4110 and 4130 for grazing use management.

DATES: You must submit your comments to BLM at the address below on or before July 9, 2007. BLM will not necessarily consider any comments received after the above date.

ADDRESSES: You may send comments to the OMB, Interior Department Desk Officer (1004-0041), at OMB-OIRA via e-mail OIRA_DOCKET@omb.eop.gov or via facsimile at (202) 395-6566. Also please send a copy of your comments to BLM via Internet and include your name, address, and ATTN: 1004-0041 in your Internet message to comments_washington@blm.gov or via mail to: U.S. Department of the Interior, Bureau of Land Management, Mail Stop 401LS, 1849 C Street, NW., ATTN: Bureau Information Collection Clearance Officer (WO-630), Washington, DC 20240.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Ken Visser, on (775) 861-6492 (Commercial or FTS). Persons who use a telecommunication device for the deaf (TDD) may call the Federal Information Relay Service (FIRS) on 1-800-877-8330, 24 hours a day, seven days a week, to contact Mr. Visser.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The Taylor Grazing Act of 1934 (43 U.S.C. 315, 315a through 315r) and the Federal Land Policy and Management Act of 1976 (43 U.S.C. 1701 et seq.) authorize the Bureau of Land Management (BLM) to administer the livestock grazing program consistent with land use plans, multiple use objectives, sustained yield, environmental values, economic considerations, and other factors. The BLM must maintain accurate records on:

(1) Permittee and lessee qualifications for a grazing permit or lease;

(2) Base property used in conjunction with public lands; and

(3) The actual use made by livestock authorized to graze on the public lands.

The BLM also collects nonform information on grazing management from permittees and lessees.

Form 4130-1, Grazing Schedule

The BLM uses the required information this form to adjudicate conflicting requests for grazing use, determine legal qualifications of applicants, issue permits, and document transfers.

Form 4130-1a, Grazing Application—Preference Summary

The BLM uses the required information on this form to verify what the BLM needs to effectuate a grazing preference transfer.

Form 4130-1b, Grazing Application (Supplemental Information)

The BLM uses the required information on this form to certify an applicant's qualifications for a grazing permit or lease and to provide other information necessary for the administration of the grazing permit or lease.

Form 4130-3a, Automated Grazing Application

The BLM uses the required information in this form to approve changes of grazing use within the terms and conditions of permits or leases.

Form 4130-4, Exchange of Use Grazing Agreement

The BLM uses this form to exchange grazing of livestock on private lands during certain periods.

Form 4130-5, Actual Grazing Use Report

The BLM uses the required information to determine if we need to adjust the amount of grazing use or if other management actions are needed. This form enables the BLM to calculate billings and to monitor and evaluate livestock grazing use on the public lands.

Burden hours information collected | Number of actions per year | Burden hours per action | Total annual burden hours | Total annual burden cost
(a) Grazing Schedule, (Form 4130-1) and non-form information in 43 CFR 4110 and 4130 | 6,000 | 8 | 48,000 | $3,600,000
(b) Grazing Application—Preference Summary (Form 4130-1a) and non-form information in 43 CFR 4110 and 4130 | 6,000 | 8 | 48,000 | 3,600,000
(c) Grazing Application (Supplemental Information) (Form 4130-1b) and non-form information in 43 CFR 4110 and 4130 | 6,000 | 8 | 48,000 | 3,600,000
(d) Automated Grazing Application (Form 4130-3a) and non-form information in 43 CFR 4110 and 4130 | 7,689 | 8 | 61,512 | 4,613,400
(e) Exchange of Use Grazing Agreement (Form 4130-4) and non-form information in 43 CFR 4110 and 4130 | 600 | 8 | 4,800 | 360,000
(f) Actual Grazing Use Report (Form 4130-5) and non-form information in 43 CFR 4110 and 4130 | 15,000 | 8 | 120,000 | 9,000,000
Total | 41,289 |  | 330,312 | 24,773,400

You must submit the requested information and forms to the proper BLM office. We estimate 41,289 responses per year and an annual information collection burden of 330,312 hours.

The BLM will summarize all responses to this notice and include them in the request for OMB approval. All comments will become a matter of public record.

Dated: May 3, 2007.
Ted R. Hudson
Bureau of Land Management, Information Collection Clearance Officer.

[FR Doc. 07-2253 Filed 5-7-07; 8:45 am]

BILLING CODE 4310-84-M